DEPARTMENT OF COMMERCE

National Oceanic and Atmospheric Administration

RIN 0648-XD253

Pacific Fishery Management Council; Public Meeting

AGENCY: National Marine Fisheries Service (NMFS), National Oceanic and Atmospheric Administration (NOAA), Commerce.

ACTION: Notice of public meeting.

SUMMARY: The Pacific Fishery Management Council's (Pacific Council) ad hoc Lower Columbia River Natural Coho Workgroup (LRC Workgroup) will hold a public work session in Portland, OR. The meeting is open to the public, but is not intended as a public hearing. Public comments will be taken at the discretion of the LRC Workgroup chair as time allows.

DATES: The work session will begin at 9 a.m. on Thursday, May 15, 2014 and will proceed until 5 p.m. or until business for the day is completed.

ADDRESSES: The work session will be held at the Pacific Council office, 7700 NE Ambassador Place, Suite 101, Portland, OR 97220-1384, telephone: (503) 820-2280 (voice) or (503) 820-2299 (fax).

FOR FURTHER INFORMATION CONTACT: Mr. Mike Burner, telephone: (503) 820-2414.

SUPPLEMENTARY INFORMATION: The primary purpose of the work session is to discuss and develop recommendations on the status of Lower Columbia River coho stocks, alternative harvest policies, risk assessment methods and criteria, and to draft a report on coho populations in the upper Willamette River. The reports and recommendations developed by the LRC Workgroup will be presented to the Pacific Council, its advisory bodies, and the public at the June 2014 Pacific Council meeting in Garden Grove, CA. The LRC Workgroup may also discuss and consider recommendations to the Pacific Council regarding items of interest on the Pacific Council's June 2014 meeting agenda.

Although non-emergency issues not contained in the LRC Workgroup meeting agendas may come before the LRC Workgroup for discussion, those issues may not be the subject of formal LRC Workgroup action during this meeting. LRC Workgroup action will be restricted to those issues specifically listed in this document and to any issues arising after publication of this document requiring emergency action under Section 305(c) of the Magnuson-Stevens Fishery Conservation and Management Act, provided the public has been notified of the LRC Workgroup's intent to take final action to address the emergency.

Special Accommodations

This public meeting is physically accessible to people with disabilities. Requests for sign language interpretation or other auxiliary aids should be directed to Mr. Kris Kleinschmidt at (503) 820-2425 (voice), or (503) 820-2299 (fax) at least 5 days prior to the meeting date.

Authority: 16 U.S.C. 1801 et seq.

Dated: April 22, 2014.
Tracey L. Thompson,
Acting Deputy Director, Office of Sustainable Fisheries, National Marine Fisheries Service.

[FR Doc. 2014-09427 Filed 4-24-14; 8:45 am]

BILLING CODE 3510-22-P